DEPARTMENT OF AGRICULTURE

Rural Business-Cooperative Service

[Docket #: RBS-24-BUSINESS-0010]

Amended Notice of Solicitation of Applications for the Rural Economic Development Loan and Grant Programs for Fiscal Year 2025

AGENCY: Rural Business-Cooperative Service, USDA.

ACTION: Notice; lowering maximum loan amount.

SUMMARY: The Rural Business-Cooperative Service (RBCS or Agency), a Rural Development (RD) agency of the United States Department of Agriculture (USDA), invited applications for loans and grants under the Rural Economic Development Loan and Grant Programs (REDLG or Programs) for fiscal year (FY) 2025, subject to the availability of funding on August 23, 2024. The Rural Business-Cooperative Service (RBCS or Agency) now announces that the maximum loan amount awarded for applications competing in the Second, Third, and Fourth Quarter funding cycles of fiscal year (FY) 2025 will be lowered to $1 million.

DATES: The following are the deadlines for FY 2025 complete loan applications to be received in the USDA Rural Development State Office no later than 4:30 p.m. (local time): Second Quarter, December 31, 2024; Third Quarter, March 31, 2025; and Fourth Quarter, June 30, 2025.

ADDRESSES: Applications must be submitted in paper or electronically to the RD State Office for the state where the project is located. A list of the RD State Office contacts can be found at: www.rd.usda.gov/about-rd/state-offices. This notice will also be announced at www.grants.gov.

FOR FURTHER INFORMATION CONTACT: Cindy Mason at cindy.mason@usda.gov, Program Management Division, Business Programs, Rural Business-Cooperative Service, U.S. Department of Agriculture, 1400 Independence Avenue SW, Stop 3226, Room 5160-South, Washington, DC 20250-3226, or call (202) 720-1400. For further information on this program, please contact the Rural Development State office in the state which the applicant's headquarters is located. A list of Rural Development State Office contacts is provided at the following link: https://www.rd.usda.gov/contact-us/state-offices. The Rural Development office for the state in which the applicant is located. A list of Rural Development State Office contacts is provided at the following link: https://www.rd.usda.gov/contact-us/state-offices.

SUPPLEMENTARY INFORMATION: RBCS published a Notice of Solicitation of Applications for the Rural Economic Development Loan and Grant Programs for FY 2025 on August 23, 2024, (89 FR 68133) Section B states that: “The Agency anticipates the following maximum amounts per award: Loans—$2,000,000; Grants—$300,000.”

Based on the total amount of loan applications submitted in FY 2024 far exceeding the available allocated funds and the number of submitted but unfunded applications that will be competing for funding in the First Quarter of FY 2025, the Agency has determined that lowering the maximum loan amount to $1 million for the Second, Third, and Fourth Quarter application periods would allow for additional project opportunities and a broader geographic distribution of Program funding.

The following are the deadlines for FY 2025 complete loan applications to be received in the USDA Rural Development State Office no later than 4:30 p.m. (local time): Second Quarter, December 31, 2024; Third Quarter, March 31, 2025; and Fourth Quarter, June 30, 2025. Completed loan applications that exceed $1 million but are not funded in the FY 2025 First Quarter competition will be allowed to compete for Second Quarter funding with the submission of a revised scope of work plan and budget for a loan amount not to exceed $1 million.

Kathryn E. Dirksen Londrigan,
Administrator, Rural Business-Cooperative Service, USDA Rural Development.

[FR Doc. 2024-27264 Filed 11-20-24; 8:45 am]

BILLING CODE 3410-XY-P